SOCIAL SECURITY ADMINISTRATION

[Docket No. SSA-2012-0048]

Service Delivery Plan; Correction

AGENCY: Social Security Administration.

ACTION: Notice; request for comments; Correction.

SUMMARY: The Social Security Administration published a document in the Federal Register of March 12, 2013, in FR Doc. 2013-05595, on page 15797, in the third column; in the SUMMARY caption insert the following hyper-links. In the first sentence after the words, “Service Delivery Plan (SDP) insert http://www.ssa.gov/open/SDP. In addition, in the third sentence after the words “Agency Strategic Plan” insert http://ssa.gov/asp/plan-2013-2016.pdf.

Paul Kryglik,
Director, Office of Regulations, Social Security Administration.

[FR Doc. 2013-06089 Filed 3-15-13; 8:45 am]

BILLING CODE 4191-02-P